DEPARTMENT OF COMMERCE

International Trade Administration

[A-570-848]

Notice of Final Results of Antidumping Duty New Shipper Review: Freshwater Crawfish Tail Meat From the People's Republic of China

AGENCY: Import Administration, International Trade Administration, Commerce.

SUMMARY: On February 19, 2003, the Department published the preliminary results of the new shipper review of the antidumping duty order on freshwater crawfish tail meat from the People's Republic of China (68 FR 7976). The review covers one producer/exporter, Weishan Zhenyu Foodstuff Co., Ltd. (Weishan Zhenyu), and exports of the subject merchandise to the United States during the period September 1, 2001 through February 28, 2002.

Based on our analysis of the record, including factual information developed since the preliminary results, the only changes we have made to the margin calculations for Weishan Zhenyu were for the purpose of updating surrogate values to achieve contemporaneity. These changes had no impact on the margin as calculated. See “Final Results of Review” section below.

EFFECTIVE DATE: July 21, 2003.

FOR FURTHER INFORMATION CONTACT: Thomas Gilgunn or Douglas Kirby, AD/CVD Enforcement, Import Administration, International Trade Administration, U.S. Department of Commerce, 14th Street and Constitution Avenue, NW., Washington DC 20230; telephone: (202) 482-3964 or (202) 482-3782, respectively.

SUPPLEMENTARY INFORMATION:

Background

We published the preliminary results of this new shipper review on February 19, 2003. See Notice of Preliminary Results of Antidumping Duty New Shipper Reviews: Freshwater Crawfish Tail Meat From the People's Republic of China, 68 FR 7976 (Preliminary Results). In the preliminary results, the Department did not address whether the sale made by Weishan Zhenyu in this new shipper review was bona fide. At the time of the Preliminary Results, we noted that the Department had issued a questionnaire to Weishan Zhenyu's importer, but had not yet received the response. Further, we indicated that we would analyze any information provided by the importer of Weishan Zhenyu's new shipper sale for purposes of the final results of this new shipper review. Consequently, we solicited additional information regarding the totality of circumstances surrounding Weishan Zhenyu's sale, including additional details on the price and quantity, and the details surrounding the business relationship between Weishan Zhenyu and its importer. In the Preliminary Results, we invited comments from the parties. We received no comments.

Scope of the Antidumping Duty Order

The product covered by this order is freshwater crawfish tail meat, in all its forms (whether washed or with fat on, whether purged or unpurged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTS) under item numbers 1605.40.10.10 and 1605.40.10.90, which are the new HTS numbers for prepared foodstuffs, indicating peeled crawfish tail meat and other, as introduced by the U.S. Customs Service (as of March 1, 2003, renamed the U.S. Bureau of Customs and Border Protection) in 2000, and HTS items 0306.19.00.10 and 0306.29.00, which are reserved for fish and crustaceans in general. The HTS subheadings are provided for convenience and Customs purposes only. The written description of the scope of this order is dispositive.

Analysis

In the Preliminary Results, we invited comments from the parties. We received no comments. However, the Crawfish Processors Alliance, the Louisiana Department of Agriculture and Forestry, and Commissioner Bob Odom (collectively the “Domestic Interested Parties”) provided timely factual information to rebut the importer's May 19 questionnaire response. The information provided in the supplemental questionnaire responses and the Domestic Interested Parties' factual submission is addressed in the Memorandum to the File through Barbara E. Tillman, Acting Deputy Assistant Secretary for Import Administration, Group III: Freshwater Crawfish Tail Meat from the People's Republic of China: Analysis of Weishan Zhenyu's New Shipper Transaction, dated July 14, 2003 (Weishan Zhenyu Memo), which is on file in the Central Records Unit, room B-099 of the main Commerce Building.

We have now analyzed all of the information provided by interested parties with respect to the question of whether Weishan Zhenyu's sale under review constitutes a bona fide sale. As discussed fully in the Weishan Zhenyu Memo, we find that, based on the information on the record regarding Weishan Zhenyu's single sale to the U.S., we cannot conclude that the sale was not bona fide. However, if, during the conduct of our administrative review or other new shipper reviews of this order, we uncover any information which shows that this was not a legitimate commercial transaction, we may consider whether it is appropriate to initiate a changed circumstances review, or whether it is appropriate to refer the matter to the U.S. Bureau of Customs and Border Protection (BCBP).

Final Results of Review

Based on our analysis of information obtained after the Preliminary Results from the importer's questionnaire responses and the Domestic Interested Parties' comments thereon, we have made not made any changes to the margin calculation methodology for Weishan Zhenyu. For factors of production for which more contemporaneous data have become available since the preliminary results, we updated the factor values accordingly. However, these changes had no impact on the margin. Accordingly, we continue to find that a margin of zero percent exists for Weishan Zhenyu for the period September 1, 2001 through February 28, 2002. The Department will issue assessment instructions directly to BCBP.

Assessment of Antidumping Duties

Upon completion of this new shipper review, the Department shall determine, and BCBP shall assess, antidumping duties on all appropriate entries. Since we calculated a margin of zero percent, we will instruct BCBP to liquidate the reviewed entries without regard to antidumping duties. The Department will issue appropriate assessment instructions directly to BCBP within 15 days of publication of the final results of review.

Cash Deposits

Bonding will no longer be permitted to fulfill security requirements for shipments from Weishan Zhenyu of freshwater crawfish tail meat from the PRC entered, or withdrawn from warehouse, for consumption in the United States on or after the publication of this notice in the Federal Register. Effective upon publication of these final results for this new shipper review, and since we calculated a margin of zero percent, there will be no cash deposit requirement for shipments of freshwater crawfish tail meat that is both produced and exported by Weishan Zhenyu, entered, or withdrawn from warehouse, for consumption on or after the date of publication, as provided by section 751(a)(2)(C) of the Act. However, we will instruct BCBP to continue the suspension of liquidation of entries of freshwater crawfish tail meat that is both produced and exported by Weishan Zhenyu, and entered on or after the date of publication of these final results. For shipments of freshwater crawfish tail meat exported by Weishan Zhenyu, but not produced by Weishan Zhenyu, cash deposits will be required at the PRC-wide rate in effect on the date of entry. The PRC-wide rate is currently 223.01 percent. There are no changes to the rates applicable to any other company under this order.

Notification to Interested Parties

The Department will disclose calculations performed in connection with these final results of review within five days of the date of publication of this notice in accordance with 19 CFR 351.224(b). This notice serves as a final reminder to importers of their responsibility under 19 CFR 351.402(f) to file a certificate regarding the reimbursement of antidumping duties prior to liquidation of the relevant entries during this review period. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return/destruction of APO materials or conversion to judicial protective order is hereby requested. Failure to comply with the regulations and the terms of an APO is a sanctionable violation.

This new shipper review and notice are in accordance with sections 751(a)(2)(B) and 777(i)(1) of the Act.

Dated: July 14, 2003.
Joseph A. Spetrini,
Acting Assistant Secretary.

[FR Doc. 03-18472 Filed 7-18-03; 8:45 am]

BILLING CODE 3510-DS-P